Presidential Determination No. 2008-16 of March 24, 2008

Determination To Waive Military Coup-Related Provision of the Department of State, Foreign Operations, and Related Programs Appropriations Act, 2008, With Respect to Pakistan

Memorandum for the Secretary of State

Pursuant to the authority vested in me by the Constitution and laws of the United States, including section 1(b) of Public Law 107-57, as amended, I hereby determine and certify, with respect to Pakistan, that a waiver of section 608 of the Department of State, Foreign Operations, and Related Programs Appropriations Act, 2008 (Consolidated Appropriations Act, 2008, Public Law 110-161; the “Act”):

(a) would facilitate the transition to democratic rule in Pakistan; and

(b) is important to U.S. efforts to respond to, deter, or prevent acts of international terrorism.

Accordingly, I hereby waive, with respect to Pakistan, section 608 of such Act.

You are authorized and directed to transmit this determination to the Congress and to publish it in the Federal Register.

THE WHITE HOUSE,

Washington, March 24, 2008.

[FR Doc. 08-1092

Filed 4-1-08; 8:44 am]

Billing code 4710-10-P